ENVIRONMENTAL PROTECTION AGENCY

[EPA-HQ-OPP-2010-0565; FRL-8835-1]

Nominations to the FIFRA Scientific Advisory Panel; Request for Comments

AGENCY: Environmental Protection Agency (EPA).

ACTION: Notice.

SUMMARY: This notice provides the names, addresses, professional affiliations, and selected biographical data of persons nominated to serve on the Scientific Advisory Panel (SAP) established under section 25(d) of the Federal Insecticide, Fungicide, and Rodenticide Act (FIFRA). The Panel was created on November 28, 1975, and made a statutory Panel by amendment to FIFRA, dated October 25, 1988. The Agency, at this time, anticipates selecting two new members to serve on the panel as a result of membership terms that will expire this year. Public comment on the nominations is invited, as these comments will be used to assist the Agency in selecting the new chartered Panel members.

DATES: Comments, identified by docket ID number EPA-HQ-OPP-2010-0565, must be received on or before September 3, 2010.

ADDRESSES: Submit your comments, identified by docket identification (ID) number EPA-HQ-OPP-2010-0565, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions. Direct your comments to docket ID number EPA-HQ-OPP-2010-0565. If your comments contain any information that you consider to be CBI or otherwise protected, please contact the Designated Federal Official (DFO) listed under FOR FURTHER INFORMATION CONTACT to obtain special instructions before submitting your comments. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although, listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Joseph E. Bailey, DFO, Office of Science Coordination and Policy (7201M), Environmental Protection Agency, 1200 Pennsylvania Ave., NW., Washington, DC 20460-0001; telephone number: (202) 564-2045; fax number: (202) 564-8382; e-mail address: bailey.joseph@epa.gov.

SUPPLEMENTARY INFORMATION:

I. General Information

A. Does this Action Apply to Me?

This action is directed to the public in general. This action may, however, be of interest to persons who are or may be required to conduct testing of chemical substances under the Federal Food, Drug, and Cosmetic Act (FFDCA), FIFRA, and the Food Quality Protection Act of 1996 (FQPA). Since other entities may also be interested, the Agency has not attempted to describe all the specific entities that may be affected by this action. If you have any questions regarding the applicability of this action to a particular entity, consult the DFO listed under FOR FURTHER INFORMATION CONTACT.

B. What Should I Consider as I Prepare My Comments for EPA?

When submitting comments, remember to:

1. Identify the document by docket ID number and other identifying information (subject heading, Federal Register date and page number).

2. Follow directions. The Agency may ask you to respond to specific questions or organize comments by referencing a Code of Federal Regulations (CFR) part or section number.

3. Explain why you agree or disagree; suggest alternatives and substitute language for your requested changes.

4. Describe any assumptions and provide any technical information and/or data that you used.

5. If you estimate potential costs or burdens, explain how you arrived at your estimate in sufficient detail to allow for it to be reproduced.

6. Provide specific examples to illustrate your concerns and suggest alternatives.

7. Explain your views as clearly as possible, avoiding the use of profanity or personal threats.

8. Make sure to submit your comments by the comment period deadline identified.

II. Background

The FIFRA SAP serves as the primary scientific peer review mechanism of EPA's Office of Chemical Safety and Pollution Prevention (OCSPP) and is structured to provide scientific advice, information and recommendations to the EPA Administrator on pesticides and pesticide-related issues as to the impact of regulatory actions on health and the environment. The FIFRA SAP is a Federal advisory committee, established in 1975 under FIFRA, that operates in accordance with requirements of the Federal Advisory Committee Act (FACA). In accordance with the statute, the FIFRA SAP is composed of a permanent panel consisting of seven members who are appointed by the EPA Administrator from nominees provided by the National Institutes of Health (NIH) and the National Science Foundation (NSF). FIFRA, as amended by FQPA, established a Science Review Board consisting of at least 60 scientists who are available to the SAP on an ad hoc basis to assist in reviews conducted by the FIFRA SAP. As a peer review mechanism, the FIFRA SAP provides comments, evaluations and recommendations to improve the effectiveness and quality of analyses made by Agency scientists. Members of the FIFRA SAP are scientists who have sufficient professional qualifications, including training and experience, to provide expert advice and recommendation to the Agency. The statute further stipulates that the Agency publish the name, address and professional affiliation in the Federal Register.

The Agency, at this time, anticipates selecting two new members to serve on the panel as a result of membership terms that will expire this year. The Agency requested nominations of experts to be selected from the field of environmental risk assessment with experience and expertise in all phases of the risk assessment process including: Planning, scoping, and problem formulation, analysis, and interpretation and risk characterization (including the interpretation and communication of uncertainty). Nominees should be well published and current in their field of expertise.

III. Charter

A Charter for the FIFRA Scientific Advisory Panel dated October 24, 2008, was issued in accordance with the requirements of the Federal Advisory Committee Act, Public Law 92-463, 86 Stat. 770 (5 U.S.C. App. I).

A. Qualifications of Members

Members are scientists who have sufficient professional qualifications, including training and experience, to be capable of providing expert comments as to the impact of pesticides on health and the environment. No persons shall be ineligible to serve on the Panel by reason of their membership on any other advisory committee to a Federal department or agency or their employment by a Federal department or agency (except EPA). The Administrator appoints individuals to serve on the Panel for staggered terms of 4 years. Panel members are subject to the provisions of 40 CFR part 3, subpart F, Standards of Conduct for Special Government Employees, which include rules regarding conflicts of interest. Each nominee selected by the Administrator, before being formally appointed, is required to submit a confidential statement of employment and financial interests, which shall fully disclose, among other financial interests, the nominee's sources of research support, if any.

In accordance with section 25(d)(1) of FIFRA, the Administrator shall require all nominees to the Panel to furnish information concerning their professional qualifications, educational background, employment history, and scientific publications.

B. Applicability of Existing Regulations

With respect to the requirements of section 25(d) of FIFRA that the Administrator promulgate regulations regarding conflicts of interest, the Charter provides that EPA's existing regulations applicable to Special Government Employees, which include advisory committee members, will apply to the members of the Scientific Advisory Panel. These regulations appear in 40 CFR part 3, subpart F. In addition, the Charter provides for open meetings with opportunities for public participation.

C. Process of Obtaining Nominees

In accordance with the provisions of section 25(d) of FIFRA, EPA, on March 11, 2010, requested that the National Institutes of Health (NIH) and the National Science Foundation (NSF) nominate scientists to fill vacancies occurring on the Panel. The Agency requested nominations of experts in the field of environmental risk assessment with experience and expertise in all phases of the risk assessment process. NIH and NSF responded by letter, providing the Agency with a total of 16 nominees. Eight of the 16 nominees are interested and available to actively participate in SAP meetings (see Unit IV. Nominees). The following eight nominees are not available:

1. Elizabeth Kelly, Ph.D., Los Alamos National Laboratory, Los Alamos, NM.

2. Riana Maier, Ph.D., Department of Soil, Water and Environmental Science, University of Arizona, Tucson, AZ.

3. Ronald Melnick, Ph.D., National Institute of Environmental Health Sciences, National Institutes of Health, Research Triangle Park, NC.

4. Eva Oberdorster, Ph.D., Department of Biological Sciences, Southern Methodist University, Dallas, TX.

5. Walter Piegorsch, Ph.D., Department of Mathematics, University of Arizona, Tucson, AZ.

6. Jim Riviere, Ph.D., Department of Population Health and Pathobiology, North Carolina State University, Raleigh, NC.

7. Theodore Slotkin, Ph.D., Department of Pharmacology and Cancer Biology, Duke University, Durham, NC.

8. Nigel Walker, Ph.D., National Institute of Environmental Health Sciences, National Institutes of Health, Research Triangle Park, NC.

IV. Nominees

The following are the names, addresses, professional affiliations, and selected biographical data of nominees being considered for membership on the FIFRA Scientific Advisory Panel. The Agency anticipates selecting two of the nominees to fill vacancies occurring this year.

1. Lawrence Barnthouse, Ph.D., President and Principle Scientist, LWB Environmental Services, Inc., Hamilton, OH.

i. Expertise. Population biology, ecological risk assessment.

ii. Education. B.A. in Biology, Kenyon College; Ph.D., in Biology with area of specialty of population biology, University of Chicago.

iii. Professional experience. Dr. Barnthouse is President and Principal Scientist of LWB Environmental Services, Inc. He has more than 30 years of experience in research and assessment projects involving impacts of energy technologies in freshwater, estuarine, and marine environments. Prior to founding LWB Environmental Services in 1998, he spent 19 years as a staff scientist at the U.S. Department of Energy's (DOE) Oak Ridge National Laboratory (ORNL). At ORNL, he led or participated in dozens of environmental research and assessment projects involving development of new methods for predicting and measuring the environmental risks of energy technologies. In 1981, he became co-principal investigator on EPA’s first research project on ecological risk assessment. Since that time, he has been active in the development and application of ecological risk assessment methods for EPA, other federal agencies, state agencies, and private industry. He has chaired workshops on ecological risk assessment for the National Academy of Sciences and the Society of Environmental Toxicology and Chemistry, and served on the peer review panels for the Framework for Ecological Risk Assessment and the Guidelines for Ecological Risk Assessment. He continues to support the development of improved methods for ecological risk assessment as the Hazard/Risk Assessment Editor of Environmental Toxicology and Chemistry and Associate Editor of Integrated Environmental Assessment and Management.

2. Deborah Cory-Slechta, Ph.D., Professor, Environmental Medicine and Pediatrics, University of Rochester Medical School, Rochester, NY.

i. Expertise. Neurotoxicology.

ii. Education. B.S. in Psychology and M.A. in Experimental Psychology, Western Michigan University; Ph.D. in Experimental Psychology, University of Minnesota.

iii. Professional experience. Dr. Cory-Slechta became a faculty member at the University of Rochester Medical School (URMC) in 1982. She became Chair of its Department of Environmental Medicine and Director of the NIEHS Environmental Health Sciences Center in 1998, and served as Dean for Research from 2000-2002. She then became Director of the Environmental and Occupational Health Sciences Institute (EOHSI) and Chair of the Department of Environmental and Community Medicine at the University of Medicine and Dentistry of New Jersey-Robert Wood Johnson Medical School from 2003-2007, before returning to URMC as Professor in Environmental Medicine and Pediatrics. Dr. Cory-Slechta has served on national review and advisory panels of the National Institutes of Health, the National Institute of Environmental Health Sciences, the Food and Drug Administration, the National Center for Toxicological Research, the Environmental Protection Agency, the National Academy of Sciences, the Institute of Medicine, and the Agency for Toxic Substances and Disease Registry, Centers for Disease Control (CDC). She currently serves on the Science Advisory Board of EPA and on the Advisory Committee for Childhood Lead Poisoning Prevention of the CDC. In addition, Dr. Cory-Slechta has served on the editorial boards of the journals Neurotoxicology, Toxicology, Toxicological Sciences, Fundamental and Applied Toxicology, Neurotoxicology and Teratology, and American Journal of Mental Retardation. She has held the elected positions of President of the Neurotoxicology Specialty Section of the Society of Toxicology, President of the Behavioral Toxicology Society, and been named a Fellow of the American Psychological Association. Her research has focused largely on the relationships between brain neurotransmitter systems and behavior, and how such relationships are altered by exposures to environmental toxicants, particularly the role played by environmental neurotoxicant exposures in developmental disabilities and neurodegenerative diseases. These research efforts have resulted in over 120 papers and book chapters to date.

3. Timothy Gross, Ph.D., Consultant, Environmental Resource Consultants, Gainsville, FL.

i. Expertise. Environmental resource management, wildlife biology, ecotoxicology.

ii. Education. B.S. and M.S. in Biology, Indiana University of Pennsylvania; M.A. in Historical Preservation, Savannah College of Art and Design; Ph.D. in Toxicology/Animal Sciences, University of Maryland.

iii. Professional experience. Dr. Gross is a private environmental resource consultant with over 20 years of experience and expertise in ecotoxicology. Dr. Gross was previously employed at the University of Florida from 1992 through 2007 and simultaneously with the U.S. Department of Interior (U.S. Geological Survey) from 1997-2006, providing Dr. Gross with a unique background in academia, public service and industry. Dr. Gross’s research expertise has focused on the assessment of biological effects of environmental stressors across many levels of biological organization, from the biochemical and molecular levels to population and community effects. These efforts have examined the potential effects of single chemicals and complex mixtures in wildlife using both laboratory-based and field-based assessments. Efforts have evaluated effects of pesticides, wastewater, pharmaceuticals, pulp-and paper discharge and other assorted man-made and natural environmental stressors. Research projects have considered a wide array of taxonomic impacts, from planktonic and macro-invertebrate populations to fish, birds, amphibians, and reptiles. Dr. Gross’s research has had broad implication and contribution to the research area of “endocrine disruption” Indeed, Dr. Gross’s research efforts on Lake Apopka and similar sites nationally are among the first indicators of endocrine modulating effects of environmental contaminants in wildlife. Dr Gross has mentored many graduate students and post-docs since 1994 and continues to participate in graduate education.

4. Nominee. Mark Harwell, Ph.D., Harwell Gentile and Associates, L.C., Palm Coast, FL.

i. Expertise. Ecological risk assessment and ecosystem management.

ii. Education. B.S. in Biology, Emory University; Ph.D., in Systems Ecology from University of Miami, Institute of Marine Science.

iii. Professional experience. Dr. Harwell is an ecosystems ecologist and is currently a Partner in Harwell Gentile and Associates, L.C, following a 25-year career in academia at Cornell University, the University of Miami Rosenstiel School, and Florida A&M University. Dr. Harwell was a leader in the development of EPA ecological risk assessment framework and has led several large risk assessments, including comparative ecological risk assessments of oil spills in Tampa Bay and the Bay of Fundy; an ecological risk assessment of the effects of climate change and the South Florida ecosystem restoration on the Everglades and Biscayne Bay; an ecotoxicological risk assessment of the Coeur d'Alene River watershed; and an assessment of the current ecological significance of effects from the Exxon Valdez oil spill on Prince William Sound. He led a series of interdisciplinary studies on human interactions with the South Florida environment, including field, mesocosm, and modeling studies in Biscayne Bay and the Florida Keys National Marine Sanctuary. He coordinated interdisciplinary studies in five National Estuarine Research Reserves, developing conceptual models of coupled human environment systems, and contributing to ecological assessments using remote sensing and hyperspectral imagery. Dr. Harwell served for more than a decade as a member of the EPA Science Advisory Board (SAB), including two terms as Chair of the Ecological Processes and Effects Committee. He led the ecological risk component of the EPA Unfinished Business Project, and was a member of the EPA SAB Reducing Risk project. He chaired the U.S. Man and the Biosphere Human-Dominated Systems Directorate, and led its project on ecological sustainability, ecosystem management, and an ecosystem integrity report card framework. He led the Scientific Committee on Problems of the Environment (SCOPE) 5-year international study to assess the global environmental consequences of nuclear war (ENUWAR), with emphasis on ecological responses to climate change. He directed the PAN-EARTH Project, a series of national-level case studies on the ecological and agricultural effects of climate variability on Venezuela, India, Japan, China, and sub-Saharan Africa; he was a member of the U.S. Global Change Research Program's National Assessment working group on coastal resources effects; and he serves as an expert reviewer for the Intergovernmental Panel on Climate Change. He served on the National Academy of Sciences (NAS) panel on ecological risks in the U.S. and Poland, and was a member of the NAS panel on risk communications. Dr. Harwell also served as a member of the NAS Board on Environmental Studies and Toxicology, and was elected a Fellow of the American Association for the Advancement of Science.

5. Stephen J. Klaine, Ph.D., Professor in the Department of Biological Sciences and Director of the Institute of Environmental Toxicology (CU-ENTOX), Clemson University, Pendleton, SC.

i. Education. B.S. in Biology, University of Cincinnati; M.S. and Ph.D. in Environmental Science, Rice University.

ii. Expertise. Toxicity and risk assessment of pesticides and metals

iii. Professional experience. Dr. Klaine has spent over 25 years conducting environmental research and educating graduate students. He has 30 Ph.D. and over 40 MS graduates from his laboratory. He has served on the board of directors of the Society of Environmental Toxicology and Chemistry and has been an associate editor for the journal, Environmental Toxicology and Chemistry for 15 years. He has been on the editorial board of the journal, Nanotoxicology, since 2009. From 1995 to 2000 he was the only U.S. participant on a multi-national International Atomic Energy Agency Cooperative Research Program on Pesticides in Coastal Tropical Ecosystems. In addition to building capacity in tropical countries around the world, this group produced the first book to compile pesticide use and effects information in tropical countries of which Dr. Klaine was co-editor. He has served on several EPA Science Advisory Panels and workshops dealing with pesticide and metal fate, effects, and risk assessment. He has also served on the panel to review the National Nanotechnology Initiative Strategy on Environmental and Human Safety Needs for Nanomaterials. He has served on the National Institute of Environmental Health Sciences (NIEHS) review panel for the Superfund Basic Research Program since 1995 and chaired the panel in 2007 and 2008. He has served on several other proposal review panels for EPA, USDA, and NIEHS. He has been a Sigma Xi National Lecturer, won the Clemson University Sigma Xi researcher of the year in 2007, and won the Clemson University Alumni Award for Outstanding Research in 2009. He has over 110 peer-reviewed publications on research ranging from the bioavailability and toxicity of pesticides and metals to pesticide risk assessment, to the environmental behavior and toxicity of nanomaterials. Current research in his laboratory focuses on characterizing: (1) The bioavailablity of metals and pesticides in aquatic systems; (2) the comparative phytotoxicity of pesticides; (3) the response of aquatic organisms to episodic contaminant exposures; (4) the water quality consequences of land use; (5) the effects of pharmaceuticals on fish behavior; and (6) the bioavailability and toxicity of colloids and nanoparticles in aquatic systems.

6. Charlene McQueen, Ph.D., ATS., W.W. Walker Professor at the Harrison School of Pharmacy, Auburn University, Auburn, AL.

i. Education. M.S. in Pharmacology and Toxicology, University of Arizona; Ph.D. in Human Genetics, University of Michigan.

ii. Expertise. Pharmacology and toxicology.

iii. Professional experience. Prior to moving to Auburn in 2007, Dr. McQueen was a professor in the Department of Pharmacology and Toxicology at the University of Arizona. Her research in the areas of pharmacogenomics, toxicogenomics and chemical carcinogenesis investigates the role of genetic variation in response to chemicals. Dr. McQueen is particularly interested in the genes that code for N-acetyltransferases (NAT1 and NAT2), enzymes involved in the metabolism of aromatic amines and hydrazines. She is using model systems to understand the mechanisms of the adverse effects of such chemicals during development and in adults. Dr. McQueen is an American Association for the Advancement of Science (AAAS) Fellow and a Fellow in the Academy of Toxicological Sciences (ATS). She has been on numerous review panels for the National Institutes of Health (NIH) and served on the Board of Scientific Councillors of the National Toxicology Program. She is currently a member of the NIH Cancer Etiology Study Section.

7. Martha Sandy, Ph.D., Senior Toxicologist/Chief, Cancer Toxicology and Epidemiology Section, California Environmental Protection Agency, Oakland, CA.

i. Expertise. Risk assessment, children's health, carcinogen exposure.

ii. Education. M.P.H. and Ph.D., in Environmental Health Science, University of California; Berkeley School of Public Health.

iii. Professional experience. Dr. Sandy is a Senior Toxicologist and Chief of the Cancer Toxicology and Epidemiology Section within the California Environmental Protection Agency's (Cal/EPA) Office of Environmental Health Hazard Assessment (OEHHA). Dr. Sandy’s section conducts hazard identification, dose-response assessment, and exposure assessment of chemical carcinogens. Children's environmental health, and in particular, cancer risk associated with early life carcinogen exposures, has been a significant focus in recent years. Her group is comprised of individuals with expertise in toxicology, epidemiology, biostatistics and exposure assessment. She conducted research investigating biochemical and molecular mechanisms of toxicity and carcinogenicity, and biochemical and genetic susceptibility factors in Parkinson’s disease before joining OEHHA in 1994. Dr. Sandy currently serves on EPA’s Children’s Health Protection Advisory Committee and has served as an ad hoc member of two EPA Scientific Review panels, as a member of two National Academy committees, as a member of one Report on Carcinogens Expert panel, and as a peer reviewer for the National Research Council.

8. Coby Schal, Ph.D., Blanton J. Whitmire Distinguised Professor of Structural Pest Management, North Carolina State University, Raleigh, NC.

i. Education. B.S. in Biology, State University of New York at Albany; Ph.D. in Entomology, University of Kansas - Lawrence; post-doctoral training in chemical ecology, University of Massachusetts-Amherst.

ii. Expertise. Entomology, pest management.

iii. Professional experience. Dr. Schal is co-founder and member of the Executive Committee of the W. M. Keck Center for Behavioral Biology, on the Executive Committee of the Genetic Pest Management Program, and member of the Agromedicine Institute. Between 1984 and 1993, Dr. Schal was Assistant and Associate Professor and Extension Specialist of Urban Entomology at Rutgers University, New Jersey. He is a leading authority on cockroach and bed bug behavior, chemical ecology, physiology, toxicology, biochemistry and molecular biology. His research has resulted in publications, patents, and tools for pest management. Dr. Schal’s research on chemical ecology has delineated pheromone-mediated communication in cockroaches, oviposition attractants in mosquitoes and the evolution of pheromone communication in moths. His team also characterized the role that juvenile hormone plays in regulating sexual behavior and sexual maturation in insects and studies the function and regulation of cuticular waxes in various insects. Research in urban entomology in the last decade has concentrated on the biology of cockroach-produced allergens and intervention strategies to mitigate their pervasiveness in the indoor environment; profiles and mechanisms of insecticide resistance that form the basis for recommendations to the pest control industry; optimization of bait delivery systems, developing and testing repellents against urban pests, and assessing the impact of these approaches on pest behavior, humans, and the environment; and practical integrated solutions (IPM) to cockroach problems in livestock production facilities that emphasize reduced-risk approaches. Dr. Schal's research has been funded by EPA, NIH, NSF, USDA, private foundations and industry, and he has published over 200 refereed papers. He has served as subject editor of the Journal of Economic Entomology and Pest Management Science, and on the editorial boards of Archives of Insect Biochemistry and Physiology, Journal of Chemical Ecology, Journal of Insect Science, and Psyche. Dr. Schal also served on several EPA panels and as panelist and panel manager for USDA grants panels, and has been an active volunteer with the Entomological Society of America, the Entomological Foundation, and the International Society of Chemical Ecology. He has directed 24 graduate students and 26 post-doctoral researchers, and mentored high school and undergraduate students. Dr. Schal teaches a graduate course in Insect Behavior, graduate seminars in Urban Entomology and Chemical Ecology, and contributes to a team-taught Professional Development course. Recent honors include Lifetime Honorary Membership in the North Carolina Pest Management Association, Distinguished Achievement Award in Urban Entomology from the National Conference on Urban Entomology, Fellow of the Entomological Society of America, Fellow of the American Association for the Advancement of Science, and North Carolina State University’s Research Friend of Extension Award and Alumni Association Outstanding Research Award.

List of Subjects

Environmental protection, Pesticides and pests.

Dated: July 20, 2010.
Frank Sanders,
Director, Office of Science Coordination and Policy.

[FR Doc. 2010-18900 Filed 8-3-10; 8:45 a.m.]

BILLING CODE 6560-50-S